DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's list of Specially Designated Nationals and Blocked Persons (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The SDN List and additional information concerning OFAC sanctions programs are available on OFAC's website (www.treas.gov/ofac).

Notice of OFAC Actions

On June 24, 2020, OFAC determined that the property and interests in property subject to U.S. jurisdiction of the following persons are blocked under the relevant sanctions authorities listed below.

Individuals

1. DANAEI KENARSARI, Ali; DOB 19 May 1977; POB Shemiran, Iran; nationality Iran; Additional Sanctions Information—Subject to Secondary Sanctions; Gender Male; Passport K41818536 (Iran) expires 10 Jul 2022 (individual) [IRAN] (Linked To: ISLAMIC REPUBLIC OF IRAN SHIPPING LINES).

Identified pursuant to section 1(c) of Executive Order 13599 of February 5, 2012, 77 FR 6659, 3 CFR, 2013 Comp., p. 215 (E.O. 13599), for having acted or purported to act for or on behalf of, directly or indirectly, the ISLAMIC REPUBLIC OF IRAN SHIPPING LINES, a person whose property and interests in property are blocked pursuant to this order.

2. GOHARDEHI, Mohsen; DOB 14 Sep 1985; POB Sary, Iran; nationality Iran; Additional Sanctions Information—Subject to Secondary Sanctions; Gender Male; Passport E52807849 (Iran) expires 05 Mar 2025 (individual) [IRAN] (Linked To: ISLAMIC REPUBLIC OF IRAN SHIPPING LINES).

Identified pursuant to section 1(c) of E.O. 13599 for having acted or purported to act for or on behalf of, directly or indirectly, the ISLAMIC REPUBLIC OF IRAN SHIPPING LINES, a person whose property and interests in property are blocked pursuant to this order.

3. RAHNAVARD, Alireza; DOB 21 Mar 1980; POB Shiraz, Iran; nationality Iran; Additional Sanctions Information—Subject to Secondary Sanctions; Gender Male (individual) [IRAN] (Linked To: NATIONAL IRANIAN TANKER COMPANY).

Identified pursuant to section 1(c) of E.O. 13599 for having acted or purported to act for or on behalf of, directly or indirectly, the NATIONAL IRANIAN TANKER COMPANY, a person whose property and interests in property are blocked pursuant to this order.

4. VAZIRI, Reza; DOB 05 Mar 1967; nationality Iran; Additional Sanctions Information—Subject to Secondary Sanctions; Gender Male; Passport T45534988 (Iran) expires 08 May 2023 (individual) [IRAN] (Linked To: NATIONAL IRANIAN TANKER COMPANY).

Identified pursuant to section 1(c) of E.O. 13599 for having acted or purported to act for or on behalf of, directly or indirectly, the NATIONAL IRANIAN TANKER COMPANY, a person whose property and interests in property are blocked pursuant to this order.

5. YAHYA ZADEH, Hamidreza (a.k.a. YAHYAZADEH, Hamid Reza; a.k.a. YAHYAZADEH, Hamidreza), Bandar Abbas, Iran; DOB 12 Oct 1961; nationality Iran; Additional Sanctions Information—Subject to Secondary Sanctions; Gender Male; National ID No. 4431472851 (Iran) (individual) [IRAN] (Linked To: NATIONAL IRANIAN TANKER COMPANY).

Identified pursuant to section 1(c) of E.O. 13599 for having acted or purported to act for or on behalf of, directly or indirectly, the NATIONAL IRANIAN TANKER COMPANY, a person whose property and interests in property are blocked pursuant to this order.

Dated: June 24, 2020.
Andrea M. Gacki,
Director, Office of Foreign Assets Control, U.S. Department of the Treasury.

[FR Doc. 2020-13906 Filed 6-26-20; 8:45 am]

BILLING CODE 4810-AL-P